DEPARTMENT OF COMMERCE

National Oceanic and Atmospheric Administration

Hydrographic Services Review Panel Meeting

AGENCY: National Ocean Service, National Oceanic and Atmospheric Administration (NOAA), Department of Commerce.

ACTION: Notice of open public meeting.

SUMMARY: The Hydrographic Services Review Panel (HSRP) will hold a meeting that will be open to the public and public comments are requested in advance and/or during the meeting. Information about the HSRP meeting, agenda, presentations, webinar registration, and other background documents will be posted online at: https://www.nauticalcharts.noaa.gov/hsrp/hsrp.htm and https://www.nauticalcharts.noaa.gov/hsrp/meetings.htm.

Dated: The meeting is planned for two and a half days during March 5-7, 2019. The dates, agenda, and times are subject to change. For updates, please check online at: https://www.nauticalcharts.noaa.gov/hsrp/hsrp.htm.

Location: The meeting venue will be in downtown Washington, DC, and the venue will be posted online in February at: https://www.nauticalcharts.noaa.gov/hsrp/hsrp.htm. Please email your name, organization and email address by February 25, 2019, to inform the guest list to: Virginia.Dentler@noaa.gov and Lynne.Mersfelder@noaa.gov.

FOR FURTHER INFORMATION CONTACT: Lynne Mersfelder-Lewis, HSRP program manager, National Ocean Service, Office of Coast Survey, NOAA (N/CS), 1315 East-West Highway, SSMC3 #6413, Silver Spring, Maryland 20910; telephone: 240-533-0064; email: Lynne.Mersfelder@noaa.gov.

SUPPLEMENTARY INFORMATION: While the meeting is open to the public, please email your name, organization and email address by February 25, 2019, to be added to inform the guest list to: Virginia.Dentler@noaa.gov and Lynne.Mersfelder@noaa.gov.

Seating will be available on a first-come, first-served basis, and public comment is encouraged. There are public comment periods scheduled each day and noted in the agenda. Each individual or group making verbal comments will be limited to a total time of five (5) minutes and will be recorded. For those not onsite, comments can be submitted in writing via the webinar chat function or via email in writing. Individuals who would like to submit written statements in advance, during or after the meeting should email their comments to Lynne.Mersfelder@noaa.gov. The HSRP will provide webinar capability. Pre-registration is required to access the webinar: https://attendee.gotowebinar.com/register/2994768801559733251.

The Hydrographic Services Review Panel (HSRP) is a Federal Advisory Committee established to advise the Under Secretary of Commerce for Oceans and Atmosphere, the NOAA Administrator, on matters related to the responsibilities and authorities set forth in section 303 of the Hydrographic Services Improvement Act of 1998, as amended, and such other appropriate matters that the Under Secretary refers to the Panel for review and advice. The charter and other information are located online at: https://www.nauticalcharts.noaa.gov/hsrp/CharterBylawsHSIAStatute.htm. Past recommendations and issue papers are at: https://www.nauticalcharts.noaa.gov/hsrp/recommendations.htm. Past HSRP public meeting summary reports, agendas, presentations, transcripts, webinars, and other information is available online at: https://www.nauticalcharts.noaa.gov/hsrp/meetings.htm.

Matters To Be Considered: The panel is convening on issues relevant to NOAA's navigation services, focusing on national issues such as stakeholder use of navigation services data, sea level rise and inundation, and legislative priorities. Navigation services include the data, products, and services provided by the NOAA programs and activities that undertake geodetic observations, gravity modeling, shoreline mapping, bathymetric mapping, hydrographic surveying, nautical charting, tide and water level observations, current observations, and marine modeling. This suite of NOAA products and services support safe and efficient navigation, resilient coasts and communities, and the nationwide positioning information infrastructure to support America's commerce. The Panel will hear from state and federal agencies, non-federal organizations and associations, regional and national stakeholders and partners about their missions and use of NOAA's navigation services, the value these services bring, and what improvements could be made. Other administrative matters may be considered. The agenda and speakers are subject to change.

Special Accommodations: This meeting is physically accessible to people with disabilities. Please direct requests for sign language interpretation or other auxiliary aids to Lynne.Mersfelder@noaa.gov by February 11, 2019.

Shepherd M. Smith,
Rear Admiral, Director, Office of Coast Survey, National Ocean Service, National Oceanic and Atmospheric Administration.

[FR Doc. 2019-02571 Filed 2-15-19; 8:45 am]

BILLING CODE 3510-JE-P